DEPARTMENT OF HOMELAND SECURITY

Federal Emergency Management Agency

44 CFR Part 67

[Docket No. FEMA-B-7756]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents, and others to calculate appropriate flood insurance premium rates for new buildings and the contents in those buildings.

DATES: Comments are to be submitted on or before April 15, 2008.

ADDRESSES: The corresponding preliminary Flood Insurance Rate Map (FIRM) for the proposed BFEs for each community are available for inspection at the community's map repository. The respective addresses are listed in the table below.

You may submit comments, identified by Docket No. FEMA-B-7756, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001, et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001, et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground: Effective | * Elevation in feet (NGVD) + Elevation in feet (NAVD) # Depth in feet above ground: Modified | Communities affected
Pulaski County, Arkansas, and Incorporated Areas
Arkansas River | Intersection with IH 440 | +246 | +247 | Unincorporated Areas of Pulaski County, City of Little Rock, City of Maumelle, City of North Little Rock.
| Confluence with Palarm Creek | +269 | +268
Bayou Two Prairie | Intersection with Highway 5 (county line) | None | +280 | Unincorporated Areas of Pulaski County.
| Approximately 1,050 feet upstream of Private Road | None | +314
Blue Branch | Confluence with Bayou Two Prairie | None | +286 | Unincorporated Areas of Pulaski County.
| Approximately 2,180 feet upstream of Highway 89 intersection | None | +318
Ferndale Creek | Confluence with Little Maumelle River | None | +362 | Unincorporated Areas of Pulaski County.
| Approximately 1,300 feet upstream of Ferndale Rd. (county line) | None | +453
Fletcher Creek | Confluence with Little Maumelle River | None | +328 | Unincorporated Areas of Pulaski County.
| Approximately 3,200 feet upstream of Walnut Grove Trail | None | +429
Glade Branch | Approximately 580 Feet upstream of Highway 67/167 | None | +266 | Unincorporated Areas of Pulaski County.
| Approximately 6,300 feet upstream of Roland Rd intersection | None | +353
Good Earth Drain | Confluence with Taylor Loop Creek | None | +280 | City of Little Rock.
| Divergence from Taylor Loop Creek | None | +285
Isom Creek | Confluence with Taylor Loop Creek | +264 | +265 | Unincorporated Areas of Pulaski County, City of Little Rock.
| Approximately 100 feet upstream of Russ Street | None | +345
Jacks Bayou | Approximately 500 feet downstream of Union Pacific Railroad intersection (county line) | +254 | +252 | Unincorporated Areas of Pulaski County, City of Jacksonville.
| Approximately 150 feet upstream of Peters Rd. intersection | None | +283
Jacks Bayou Tributary 10 | Confluence with Jacks Bayou | None | +271 | Unincorporated Areas of Pulaski County.
| Approximately 700 feet upstream of Hercules Dr. intersection | None | +279
Kinley Creek | Approximately 8,010 feet downstream from intersection with Garrison Rd | +350 | +349 | Unincorporated Areas of Pulaski County.
| Approximately 1,130 feet upstream from intersection with Garrison Rd | +425 | +424
Little Maumelle River | Approximately 2,570 feet downstream from confluence with Arkansas River | +257 | +262 | Unincorporated Areas of Pulaski County.
| Approximately 5,300 feet upstream from intersection with Carnation Lane | +564 | +561
Neal Creek | Confluence with Kinley Creek | None | +380 | Unincorporated Areas of Pulaski County.
| Approximately 7,200 feet upstream of intersection with Condor Rd | None | +514
Nowlin Creek | Approximately 25,098 feet upstream from intersection with Goodson Rd | +497 | +495 | Unincorporated Areas of Pulaski County.
| Approximately 25,348 feet upstream from intersection with Goodson Rd | +500 | +497
South Loop | Approximately 1,358 feet upstream from confluence with Taylor Loop Creek | None | +266 | Unincorporated Areas of Pulaski County.
| Approximately 1,801 feet downstream from confluence with Taylor Loop Creek | None | +299
South Split | At confluence with South Loop | None | +280 | Unincorporated Areas of Pulaski County.
| Approximately 194 feet downstream from confluence with South Loop | None | +290
Taylor Loop Creek | Approximately 475 feet downstream from intersection with Railroad | None | +266 | Unincorporated Areas of Pulaski County.
| Approximately 1,451 feet downstream from intersection with Jennifer Dr | None | +430
Tributary 4 to Little Maumelle River | Confluence with Little Maumelle River | None | +240 | Unincorporated Areas of Pulaski County, City of Little Rock.
| Intersection with Cantrell Rd | None | +301
Tributary 5 to Little Maumelle River | Confluence with Little Maumelle River | None | +266 | Unincorporated Areas of Pulaski County.
| Approximately 120 feet downstream of Guenther Rd | None | +282
Tributary 6 to Fletcher Creek | Confluence with Fletcher Creek | None | +366 | Unincorporated Areas of Pulaski County.
| Approximately 6,150 feet upstream of intersection with Walnut Grove Rd | None | +427
Tributary 7 to Little Maumelle River | Approximately 3,275 feet downstream from intersection with Ferndale Rd | None | +316 | Unincorporated Areas of Pulaski County.
| Approximately 12,163 feet upstream from intersection with Ferndale Rd | None | +455
Tributary 8 to Fletcher Creek | Approximately 233 feet upstream from confluence with Fletcher Creek | None | +404 | Unincorporated Areas of Pulaski County.
| Approximately 3,488 feet upstream from intersection with Autumn Blaze Trail | None | +509
Tributary 9 to Little Maumelle River | Approximately 748 feet upstream from confluence with Little Maumelle River | None | +330 | Unincorporated Areas of Pulaski County.
| Approximately 1,160 feet upstream of intersection with Garrison Rd | None | +512
White Oak Branch | Approximately 123 feet upstream from intersection with Highway 5 | None | +288 | Unincorporated Areas of Pulaski County.
| Approximately 6,051 feet upstream from intersection with Mount Pleasant | None | +329
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Jacksonville
Maps are available for inspection at 15412 Main St., Alexander, AR 72002.
City of Little Rock
Maps are available for inspection at 701 West Markham St., Little Rock, AR 72201.
City of Maumelle
Maps are available for inspection at 550 Edgewood Dr., Maumelle, AR 72113.
City of North Little Rock
Maps are available for inspection at 120 Main St., North Little Rock, AR 72114.
City of Sherwood
Maps are available for inspection at 2199 East Kiehl Ave., Sherwood, AR 72120.
Town of Alexander
Maps are available for inspection at 15412 Main St., Alexander, AR 72002.
Town of Cammack
Maps are available for inspection at 2710 N. Mckinley, Cammack Village, AR 72207.
Unincorporated Areas of Pulaski County
Maps are available for inspection at 501 W. Markham, Suite A, Little Rock, AR 72201.
Oxford County, Maine, and Incorporated Areas
Barkers Brook | Approximately 625 feet downstream of Cushing Road | None | +634 | Town of Bethel.
| Approximately 680 feet downstream of Gore Road | None | +662
Barkers Pond | At ponding area north of approximately 500 feet east of the intersection of Pine Cove Point and Narrow Gauge Trail and east of Narrow Gauge Trail | None | +497 | Town of Hiram.
Crooked River | Approximately 500 feet downstream of Jesse Mill Road | +330 | +333 | Town of Otisfield.
| Approximately 600 feet upstream of Harrison Road | +400 | +398
Hancock Brook | Approximately 600 feet downstream of Scribner Mill Road | +362 | +361 | Town of Hiram.
| Approximately 180 feet southeast of the intersection of Pine Cove Point and Narrow Gauge Trail | None | +494
Moose Pond. | At ponding area north of approximately 600 feet upstream of the intersection of Evergreen Drive and Hemlock Road, east of Pine Drive and west of Fox Run Line | None | +524 | Town of Otisfield.
Saturday Pond | At ponding area approximately 875 feet northwest of Peaco Hill Road, west of Great Oaks Line and east of west Shore Drive | None | +533 | Town of Otisfield.
Stony Brook | Approximately 100 feet downstream of Buckfield Road | None | +479 | Town of Paris.
| Approximately 155 feet downstream of Christian Road | None | +577
Twitchell Brook | Approximately 700 feet east of the intersection of Buckfield Road and Emery Avenue | None | +395 | Town of Paris.
| Approximately 2,750 feet upstream of Hebron Road | None | +487
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Bethel
Maps are available for inspection at Town Office, 19 Main Street, Bethel, ME 04217.
Town of Hiram
Maps are available for inspection at Town Office, 25 Allard Circle, Hiram, ME 04041.
Town of Otisfield
Maps are available for inspection at Town Office, 403 State Route 121, Otisfield, ME 04270.
Town of Paris
Maps are available for inspection at Town Office, 33 Market Square, South Paris, ME 04281.
Hancock County, Mississippi, and Incorporated Areas
Bayou Coco | Approximately 300 feet upstream of Sam Farve Road | +15 | +17 | Unincorporated Areas of Hancock County.
| Just downstream of Cuevas Road | None | +38
Bayou Coco Tributary 1 | At the confluence with Bayou Coco | None | +26 | Unincorporated Areas of Hancock County.
| Approximately 6,500 feet upstream of the confluence with Bayou Coco | None | +55
Bayou La Terre | Approximately 3,100 feet upstream of Kiln Delisle Road | +14 | +17 | Unincorporated Areas of Hancock County.
| Approximately 8,976 feet upstream of Kiln Delisle Road | +20 | +21
Bayou Lasalle | Approximately 2,000 feet upstream of Kiln Delisle Road | +14 | +17 | Unincorporated Areas of Hancock County.
| Approximately 2,100 feet downstream of confluence with Bayou LaSalle Tributary 1 | +20 | +21
Bayou Talla | Approximately 1,300 feet downstream of confluence with Bayou Talla Tributary 3 | None | +17 | Unincorporated Areas of Hancock County.
| Just downstream of Kiln Picayune Road | None | +25
Bayou Talla Tributary 3 | At the confluence with Bayou Talla | None | +19 | Unincorporated Areas of Hancock County.
| Approximately 2,300 feet upstream of the confluence with Bayou Talla | None | +28
Catahoula Creek | At the confluence with Jourdan River | None | +18 | Unincorporated Areas of Hancock County.
| Approximately 3,100 feet downstream of Mitchell Road | None | +47
Dead Tiger Creek | At the confluence with Catahoula Creek | None | +27 | Unincorporated Areas of Hancock County.
| Just downstream of Flat Top Road | None | +34
Hickory Creek | At the confluence with Catahoula Creek | None | +45 | Unincorporated Areas of Hancock County.
| Approximately 450 feet downstream of the confluence with Crane Pond Branch | None | +50
Hickory Creek Tributary 1 | Approximately 2,500 feet upstream of the confluence with Hickory Creek | None | +81 | Unincorporated Areas of Hancock County.
| Approximately 7,500 feet upstream of the confluence with Hickory Creek | None | +113
Jourdan River | Approximately 10,560 feet downstream of confluence with Bayou Bacon | None | +16 | Unincorporated Areas of Hancock County.
| At the confluence with Bayou Bacon | None | +18
Mississippi Sound/Gulf of Mexico | Near the intersection of Beach Boulevard and Lafitte Drive | +13 | +18 | Unincorporated Areas of Hancock County, City of Bay St. Louis, City of Waveland.
| Near the intersection of Hancock Street and St. Charles Street | +17 | +27
Pearl River/Mississippi Sound | Just west of the intersection of State Highway 607 and Old Highway 43 | +13 | +12 | Unincorporated Areas of Hancock County.
| South of La France Road at railroad along coastline | +18 | +25
St. Louis Bay/Bayou La Croix/Bayou Philip/Jourdan River | Approximately 15,840 feet east of intersection of Interstate 10 and State Highway 607 | None | +9 | Unincorporated Areas of Hancock County, City of Bay St. Louis, City of Waveland.
| Eastern county boundary south of Interstate 10 | +16 | +26
Stall Branch | At the confluence with Dead Tiger Creek | None | +30 | Unincorporated Areas of Hancock County.
| Approximately 14,600 feet upstream of the confluence with Dead Tiger Creek | None | +42
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Bay St. Louis
Maps are available for inspection at Courthouse, 688 Highway 90, Bay St. Louis, MS 39520.
City of Waveland
Maps are available for inspection at Permit Department, 335 Coleman Avenue, Building 5, Waveland, MS 39576.
Unincorporated Areas of Hancock County
Maps are available for inspection at Building Department, 3068 Longfellow Drive, Building 6, Bay St. Louis, MS 39520.
Jackson County, Mississippi, and Incorporated Areas
Bay of Biloxi | Approximately 5,000 feet downstream of Interstate 10 | +10 | +12 | Unincorporated Areas of Jackson County, City of Ocean Springs.
| At Jackson/Harrison county boundary at the shoreline just south of the intersection of Beach Bayou Avenue and Racetrack Road | +16 | +23
Bayou Costapia | At Jackson/Harrison county boundary | +13 | +14 | Unincorporated Areas of Jackson County.
| Approximately 780 feet upstream of Jackson/Harrison county boundary | +14 | +15
Bluff Creek | Approximately 500 feet upstream of confluence with Woodmans Branch | +10 | +11 | Unincorporated Areas of Jackson County.
| Approximately 650 feet downstream of Highway 57 | +12 | +13
Cypress Creek | Approximately 1,000 feet upstream of Jackson/Harrison county boundary | +12 | +14 | Unincorporated Areas of Jackson County.
| At the confluence with Ditch No. 1 | +15 | +16
Gulf of Mexico/Mississippi Sound/Pascagoula River | At the intersection of Frank Griffin Road and Interstate 10 | +7 | +8 | Unincorporated Areas of Jackson County, City of Gautier, City of Moss Point, City of Ocean Springs, City of Pascagoula.
| Petit Bois Island | +10 | +17
| Horn Island | +8 | +18
| At the western end of Point Aux Chenes Road | +17 | +23
Jackson Creek | At the confluence with Escatawpa River | None | +15 | Unincorporated Areas of Jackson County.
| At Mississippi/Alabama state boundary | None | +19
Jackson Creek Tributary 2 | At the confluence with Jackson Creek | None | +16 | Unincorporated Areas of Jackson County.
| Approximately 4,150 feet upstream of the confluence with Jackson Creek | None | +20
Old Fort Bayou | Approximately 3,200 feet downstream of Interstate 10 | +10 | +12 | Unincorporated Areas of Jackson County.
| Approximately 900 feet upstream of confluence with Bayou Castelle | +12 | +13
Old Fort Bayou Tributary 7 | Appproximately 3,800 feet upstream of the confluence with Old Fort Bayou | None | +18 | Unincorporated Areas of Jackson County.
| Approximately 500 feet downstream of Humphrey Road | None | +41
Old Fort Bayou Tributary 8 | Approximately 2,100 feet upstream of the confluence with Old Fort Bayou Tributary 7 | None | +18 | Unincorporated Areas of Jackson County.
| Approximately 4,600 feet upstream of the confluence with Old Fort Tributary 7 | None | +25
Ponding Area | Ponding area bound by State Highway 613 to the north, Highway 90 to the south, 14th Street to the west, and Hospital Street to the east | None | +13 | City of Moss Point.
| Ponding area bound by Elder Street to the north, Dr. Martin Luther King Drive to the south, State Highway 613 to the west, and Palmetto Street to the east | None | +14
| Approximately 750 feet east of intersection of Slag Road and Gautier Street | None | +16
Ponding Area | Ponding area bound by Nottingham Road to the north, Highway 90 to the south, Bristol Boulevard to the west, and Guilford Road to the east | None | +20 | City of Ocean Springs.
Ponding Areas | Ponding areas bound by Groveland Road to the north, Highway 90 to the south, Industrial Park Circle to the west, and Parktown Drive to the east | None | +19 | City of Ocean Springs.
Waters Creek | At McGregor Road | None | +26 | Unincorporated Areas of Jackson County.
| At the confluence with Waters Creek Tributary 4 | None | +38
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Gautier
Maps are available for inspection at Code Enforcement, 3330 Highway 90, Gautier, MS 39553.
City of Moss Point
Maps are available for inspection at City Hall, 4412 Denny Street, Moss Point, MS 39563.
City of Ocean Springs
Maps are available for inspection at Building Department, 1018 Porter Avenue, Ocean Springs, MS 39564.
City of Pascagoula
Maps are available for inspection at Code Enforcement Department, 4015 14th Street, Pascagoula, MS 39567.
Unincorporated Areas of Jackson County
Maps are available for inspection at Jackson County Civic Center, 2902 Shortcut Road, Pascagoula, MS 39567.
Marion County, Tennessee, and Incorporated Areas
Pryor Cove Branch | Confluence with Standifer Branch | None | +640 | Town of Jasper.
| Confluence with West Fork Pryor Cove Branch | +715 | +714
Sequatchie River | At confluence with Tennessee River | None | +616 | Town of Jasper.
| Approximately 575 feet upstream of U.S. Highway 41 | None | +620
Standifer Branch | At confluence of Town Creek | None | +619 | Town of Jasper.
| At confluence of Pryor Cove Branch | None | +639
West Fork Pryor Cove Branch | At confluence with Pryor Cove Branch | None | +714 | Town of Jasper.
| Approximately 250 feet upstream of Pryor Cove Road | None | +786
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Town of Jasper
Maps are available for inspection at 4460 Main Street, Jasper, TN 37347.
Dallas County, Texas, and Incorporated Areas
Bear Creek | Approximately 406 feet upstream from intersection with S. Beltline Rd | +443 | +446 | City of Irving, City of Grand Prairie.
| Approximately 481 feet upstream from intersection with County Line Rd | +475 | +472
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Grand Prairie
Maps are available for inspection at 206 West Church St., Grand Prairie, TX 75051.
City of Irving
Maps are available for inspection at 825 West Irving Blvd., Irving, TX 75015.
Kenosha County, Wisconsin, and Incorporated Areas
Airport Creek | At the confluence with Pike Creek | +679 | +677 | Unincorporated Areas of Kenosha County, City of Kenosha.
| Approximately 4,910 feet upstream of its confluence | None | +688
Brighton Creek | At the confluence with the Des Plaines River | +696 | +695 | Unincorporated Areas of Kenosha County.
| At the downstream side of State Highway 75 | None | +789
Center Creek | At the confluence with the Des Plaines River | +681 | +679 | Unincorporated Areas of Kenosha County.
| At the downstream side of State Highway 50 | None | +705
Des Plaines River | From the Wisconsin-Illinois State Line | +674 | +676 | Unincorporated Areas of Kenosha County, Village of Pleasant Prairie.
| Approximately 1,190 feet from the Kenosha County-Racine County Line | +705 | +706
Dutch Gap Canal | From the Wisconsin-Illinois State Line | None | +575 | Unincorporated Areas of Kenosha County.
| At the downstream side of County Highway C | None | +579
Jerome Creek | Approximately 1,575 feet downstream of 88th Avenue | +677 | +676 | Village of Pleasant Prairie.
| Approximately 750 feet upstream of Johnson Road | None | +715
Kenosha Branch | At the confluence with the Pike River | +595 | +593 | Unincorporated Areas of Kenosha County, City of Kenosha.
| Approximately 700 feet upstream of 22nd Avenue | None | +619
Kilbourn Road Ditch | At the confluence with the Des Plaines River | +680 | +679 | Unincorporated Areas of Kenosha County, Village of Pleasant Prairie.
| Kenosha County-Racine County Line | +727 | +726
Mud Lake Outlet | At the confluence with Dutch Gap Canal | +757 | +758 | Unincorporated Areas of Kenosha County.
| Approximately 2,500 feet upstream of 187th Street | None | +765
Nelson Creek | At the confluence with Sorenson Creek | +601 | +600 | Unincorporated Areas of Kenosha County.
| Kenosha County-Racine County Line | None | +616
Pike Creek | Just upstream of State Highway 31 | +647 | +645 | Unincorporated Areas of Kenosha County, City of Kenosha.
| Just upstream of State Highway 50 | None | +684
Pike River | At the confluence with Lake Michigan | +585 | +584 | Unincorporated Areas of Kenosha County, City of Kenosha.
| Just upstream of State Highway 31 | +654 | +653
Pleasant Prairie Tributary | Approximately 1,900 feet downstream of County Highway C | +678 | +677 | Village of Pleasant Prairie.
| Approximately 5,500 feet upstream of its confluence with the Des Plaines River | None | +685
Salem Branch | Approximately 150 feet upstream of its confluence with Brighton Creek | None | +721 | Unincorporated Areas of Kenosha County, Village of Paddock Lake.
| Approximately 2.37 miles upstream of its confluence with Brighton Creek | None | +756
Somers Branch | At the confluence with Pike Creek | +661 | +659 | Unincorporated Areas of Kenosha County.
| Approximately 110 feet downstream of 12th Street | +703 | +704
Sorenson Creek | At the confluence with the Pike River | +601 | +600 | Unincorporated Areas of Kenosha County.
| At the Kenosha County-Racine County Line | +614 | +611
Union Grove Industrial Tributary | At the confluence with the Des Plaines River | +704 | +706 | Unincorporated Areas of Kenosha County.
| Kenosha County-Racine County Line | None | +739
Unnamed Tributary No. 1E to Des Plaines River | At the confluence with Unnamed Tributary No. 1 to the Des Plaines River | +674 | +676 | Unincorporated Areas of Kenosha County, Village of Pleasant Prairie.
| Approximately 1,700 feet upstream of Johnson Road | None | +726
Unnamed Tributary No 1. to Center Creek | At the confluence with Center Creek | None | +684 | Unincorporated Areas of Kenosha County.
| Approximately 5,702 feet upstream of State Highway 50 | None | +756
Unnamed Tributary No. 1 to Des Plaines River | From the Wisconsin-Illinois State Line | +674 | +675 | Village of Pleasant Prairie.
| Approximately 5,400 feet upstream of Springbrook Road | None | +713
Unnamed Tributary No. 1 to Hooker Lake | At the confluence with Hooker Lake | None | +757 | Unincorporated Areas of Kenosha County.
| Approximately 5,637 feet upstream of 89th Street | None | +813
Unnamed Tributary No. 1 to Kilbourn Road Ditch | At the confluence with Kilbourn Road Ditch | +680 | +679 | Village of Pleasant Prairie.
| Approximately 3,800 feet upstream of its confluence with Kilbourn Road Ditch | None | +686
Unnamed Tributary No. 1 to Salem Branch Brighton Creek | At the confluence with Salem Branch | None | +729 | Unincorporated Areas of Kenosha County.
| At the downstream side of 85th Street | None | +761
Unnamed Tributary No. 13 to Kilbourn Road Ditch | At the confluence with Kilbourn Road Ditch | +716 | +715 | Unincorporated Areas of Kenosha County.
| At the upstream side of Frontage Road | None | +736
Unnamed Tributary No. 15 to Kilbourn Road Ditch | At the confluence with Kilbourn Road Ditch | +724 | +723 | Unincorporated Areas of Kenosha County.
| Approximately 2,286 feet upstream of its confluence with Kilbourn Road Ditch | None | +726
Unnamed Tributary No. 1A to Des Plaines River | At the confluence with Unnamed Tributary No. 1 to the Des Plaines River | +674 | +678 | Village of Pleasant Prairie.
| At the Wisconsin-Illinois State Line | None | +715
Unnamed Tributary No. 1B to Des Plaines River | At the confluence with Unnamed Tributary No. 1 to the Des Plaines River | None | +683 | Village of Pleasant Prairie.
| Just downstream of its confluence with Unnamed Tributary No. 1C to the Des Plaines River | None | +698
Unnamed Tributary No. 1C to Des Plaines River | At the confluence with Unnamed Tributary No. 1B | None | +698 | Village of Pleasant Prairie.
| Approximately 8,500 feet upstream of its confluence with Unnamed Tributary No. 1B | None | +736
Unnamed Tributary No. 1F to Des Plaines River | At the confluence with Unnamed Tributary No. 1E to the Des Plaines River | None | +691 | Unincorporated Areas of Kenosha County, Village of Pleasant Prairie.
| Approximately 1,560 feet upstream of its confluence with Unnamed Tributary No. 1E | None | +746
Unnamed Tributary No. 2 to Des Plaines River | At the confluence with Unnamed Tributary No. 1E to the Des Plaines River | +675 | +676 | Village of Pleasant Prairie.
| Approximately 1 mile upstream of Johnson Road | None | +748
Unnamed Tributary No. 2 to Jerome Creek | At the confluence with Jerome Creek | None | +680 | Village of Pleasant Prairie.
| At the divergence from Unnamed Tributary No. 3 to Jerome Creek | None | +681
Unnamed Tributary No. 2 to Salem Branch Brighton Creek and Paddock Lake | At the confluence with Salem Branch | None | +751 | Unincorporated Areas of Kenosha County, Village of Paddock Lake.
| Approximately 968 feet upstream of State Highway 50 | None | +794
Unnamed Tributary No. 2A to Des Plaines River | At the confluence with Unnamed Tributary No. 2 to the Des Plaines River | None | +712 | Village of Pleasant Prairie.
| Approximately 1,400 feet upstream of its confluence with Unnamed Tributary No. 2 | None | +727
Unnamed Tributary No. 3 to Dutch Gap Canal | At the confluence with Dutch Gap Canal | None | +759 | Unincorporated Areas of Kenosha County.
| Approximately 4,965 feet upstream of U.S. Highway 45 | None | +791
Unnamed Tributary No. 3 to Jerome Creek | At the confluence with Jerome Creek | None | +681 | Village of Pleasant Prairie, City of Kenosha.
| At the downstream side of 70th Avenue | None | +688
Unnamed Tributary No. 3 to Salem Brighton Creek and Montgomery Lake | At the confluence with Salem Branch | None | +756 | Unincorporated Areas of Kenosha County.
| Approximately 2,847 feet upstream of 84th Street | None | +801
Unnamed Tributary No. 4 to Dutch Gap Canal | At the confluence with Unnamed Tributary No. 3 to the Dutch Gap Canal | None | +763 | Unincorporated Areas of Kenosha County.
| Approximately 3,370 feet upstream of 107th Street | None | +772
Unnamed Tributary No. 4 to Jerome Creek | At the confluence with Jerome Creek | None | +681 | Village of Pleasant Prairie.
| Approximately 5,000 feet upstream of Johnson Road | None | +715
Unnamed Tributary No. 4 to Jerome Creek Overflow | At the confluence with Jerome Creek | None | +682 | Village of Pleasant Prairie.
| At the divergence from Unnamed Tributary No. 4 to Jerome Creek | None | +690
Unnamed Tributary No. 5 to Des Plaines River | Approximately 500 feet downstream of County Highway H | +676 | +677 | Village of Pleasant Prairie.
| Approximately 250 feet upstream of Johnson Road | None | +680
Unnamed Tributary No. 5 to Kilbourn Road Ditch | Approximately 670 feet upstream of 120th Avenue | None | +701 | Unincorporated Areas of Kenosha County, City of Kenosha.
| At the downstream side of 128th Avenue | None | +736
Unnamed Tributary No. 5B to Des Plaines River | At the confluence with Unnamed Tributary No. 5 to the Des Plaines River | None | +679 | Village of Pleasant Prairie.
| Approximately 1,700 feet upstream of its confluence with Unnamed Tributary No. 5 | None | +685
Unnamed Tributary No. 6 to Brighton Creek and League Lake | At the confluence with Brighton Creek | None | +742 | Unincorporated Areas of Kenosha County, Village of Paddock Lake.
| Approximately 1,681 feet upstream of 60th Street | None | +789
Unnamed Tributary No. 7 to Des Plaines River | Approximately 815 feet downstream of 120th Avenue | None | +676 | Unincorporated Areas of Kenosha County, Village of Pleasant Prairie.
| At the downstream side of 136th Avenue | None | +710
Unnamed Tributary No. 8 to Kilbourn Road Ditch | Approximately 670 feet upstream of the confluence with Kilbourn Road Ditch | +709 | +710 | Unincorporated Areas of Kenosha County.
| At the upstream side of Frontage Road | None | +724
Unnamed Tributary No. 8 to Kilbourn Road Ditch Overflow | Approximately 800 feet upstream of its confluence with Kilbourn Road Ditch | +707 | +708 | Unincorporated Areas of Kenosha County.
| Approximately 2,464 feet upstream of its confluence with Kilbourn Road Ditch | None | +716
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Kenosha
Maps are available for inspection at City Hall, 625 52nd Street, Kenosha, WI 53140-3738.
Unincorporated Areas of Kenosha County
Maps are available for inspection at County Courthouse, 912 56th Street, Kenosha, WI 53140-3738.
Village of Paddock Lake
Maps are available for inspection at Village Hall, 6969 236th Avenue, Salem, WI 53168.
Village of Pleasant Prairie
Maps are available for inspection at Village Hall, 9915 39th Avenue, Pleasant Prairie, WI 53158-6501.

(Catalog of Federal Domestic Assistance No. 97.022, “Flood Insurance.”)

Dated: January 3, 2008.
David I. Maurstad,
Federal Insurance Administrator of the National Flood Insurance Program, Department of Homeland Security, Federal Emergency Management Agency.

[FR Doc. E8-725 Filed 1-15-08; 8:45 am]

BILLING CODE 9110-12-P